DEPARTMENT OF THE INTERIOR

Bureau of Land Management

[17XL1109AF; L12200000.PM0000.241E; LLWO250000]

Notice of Use Authorizations; Special Recreation Permits, Other Than on Developed Recreation Sites; Adjustment in Fees

AGENCY: Bureau of Land Management, Interior.

ACTION: Notice.

SUMMARY: The Bureau of Land Management (BLM) is adjusting certain special recreation permit fees for various recreation activities on BLM-administered public lands and related waters. The BLM is adjusting the minimum fee for commercial, competitive, organized group activities or events, and assigned sites.

DATES: The fee adjustments will become applicable on November 20, 2017.

FOR FURTHER INFORMATION CONTACT: David Ballenger, Division of Recreation and Visitor Services, 202-912-7642. Persons who use a telecommunications device for the deaf (TDD) may call the Federal Relay Service at 1-800-877-8339 to contact Mr. Ballenger during normal business hours. The Service is available 24 hours a day, 7 days a week, to leave a message or question with Mr. Ballenger. You will receive a reply during normal business hours.

SUPPLEMENTARY INFORMATION: This notice establishes that, effective on November 20, 2017, the Special Recreation Permit (SRP) minimum fee for commercial use is $110 per year. The minimum fee for both competitive and organized group activities and events is $6 per person per day, and the minimum fee for an assigned site is $220 per site.

The BLM Director is authorized to periodically adjust fees by the regulations found at 43 CFR 2932.31(b). The previous fee schedule went into effect on March 1, 2014. Commercial and reserved site fees are rounded to the nearest $5. Competitive and group use fees are rounded to the nearest $1. Individual states also have the option of imposing application fees as a matter of cost recovery and/or establishing higher minimum fees for SRPs. The next fee adjustment is scheduled for March 1, 2020.

The intended effect of the fee calculation process is to ensure that fees cover administrative costs of permit issuance, provide a fair return to the U.S. Government for use of the public lands, and reflect fair market value. The BLM, in coordination with the U.S. Forest Service, automatically adjusts the minimum commercial, competitive, organized group and activity special recreation permit fees and minimum assigned site fee every 3 years.

These fees are calculated and adjusted based on the change in the Implicit Price Deflator-Gross Domestic Product Index (IPD-GDP). The IPD-GDP is also available from the U.S. Department of Commerce, Bureau of Economic Analysis, at the following Web site: http://www.bea.gov/iTable/index_nipa.cfm.

Authority: 43 U.S.C. 1740, 16 U.S.C. 6802, and 43 CFR 2932.31

Kristin Bail,
Assistant Director, Renewable Resources and Planning.

[FR Doc. 2017-25101 Filed 11-17-17; 8:45 am]

BILLING CODE 4310-84-P